DEPARTMENT OF HEALTH AND HUMAN SERVICES

Health Care Financing Administration

[Document Identifier: HCFA-R-311]

Agency Information Collection Activities: Proposed Collection; Comment Request

AGENCY: Health Care Financing Administration, HHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New collection.

Title of Information Collection: Study to Support Development and Refinement of a Classification System and Prospective Payment System for Patients in Inpatient Rehabilitation Hospitals and Exempt Rehabilitation Units.

Form No.: HCFA-R-311 (OMB# 0938-NEW).

Use: This study will collect patient characteristics (using a previously approved instrument, the MDS-PAC), facility characteristics, and resource utilization as determined by staff time measurement and ancillary charges. The resulting analytic data base will support the development and refinement of a classification system for Medicare beneficiaries. This information will be used to develop a classification of Medicare patients using rehabilitation services in inpatient rehabilitation hospitals and exempt rehabilitation units in conformance with the requirements of the BBA of 1997.

Frequency: On occasion.

Affected Public: Business or other for-profit and not-for-profit institutions.

Number of Respondents: 1,640.

Total Annual Responses: 2,174.

Total Annual Hours: 4,735.

To obtain copies of the supporting statement and any related forms for the proposed paperwork collections referenced above, access HCFA's Web Site address at http://www.hcfa.gov/regs/prdact95.htm, or E-mail your request, including your address, phone number, OMB number, and HCFA document identifier, to Paperwork@hcfa.gov, or call the Reports Clearance Office on (410) 786-1326. Written comments and recommendations for the proposed information collections must be mailed within 60 days of this notice directly to the HCFA Paperwork Clearance Officer designated at the following address: HCFA, Office of Information Services, Security and Standards Group, Division of HCFA Enterprise Standards, Attention: Dawn Willinghan, Room N2-14-26, 7500 Security Boulevard, Baltimore, MD 21244-1850.

Dated: February 14, 2000.
John P. Burke III,
HCFA Reports Clearance Officer, HCFA Office of Information Services, Security and Standards Group, Division of HCFA Enterprise Standards.

[FR Doc. 00-4394 Filed 2-24-00; 8:45 am]

BILLING CODE 4120-03-P